DEPARTMENT OF DEFENSE

Office of the Secretary

[Docket ID: DoD-2021-OS-0005]

Manual for Courts-Martial; Proposed Amendments

AGENCY: Joint Service Committee on Military Justice (JSC), DoD.

ACTION: Annual review of the Manual for Courts-Martial, United States.

SUMMARY: Pursuant to the authorities found in the SUPPLEMENTARY INFORMATION section of this notice, the JSC is conducting its annual review of the Manual for Courts-Martial (MCM), United States. The JSC invites members of the public to suggest changes to the MCM. Please provide supporting rationale for any proposed changes.

DATES: Proposed changes must be received no later than April 23, 2021.

ADDRESSES: You may submit comments, identified by docket number and title, by any of the following methods:

• Federal Rulemaking Portal: http://www.regulations.gov.

Follow the instructions for submitting comments.

• Mail: DoD cannot receive written comments at this time due to the COVID-19 pandemic. Comments should be sent electronically to the docket listed above.

Instructions: Comments must be submitted by one of the above methods to ensure they are received, documented, and considered by the JSC. All submissions received must include the agency name and docket number for this Federal Register document. The general policy for comments and other submissions from members of the public is to make these submissions available for public viewing on the internet at http://www.regulations.gov as they are received without change, including any personal identifiers or contact information.

FOR FURTHER INFORMATION CONTACT: Major Joy E. Hewitt, USAF, Executive Secretary, JSC, via phone at 240-612-4820 or email at joy.hewitt.1@us.af.mil. The JSC public website is located at http://jsc.defense.gov.

SUPPLEMENTARY INFORMATION: Pursuant to Executive Order 12473, “Manual for Courts-Martial, United States, 1984,” and Department of Defense Instruction 5500.17, “Role and Responsibilities of the Joint Service Committee on Military Justice (JSC) (available at https://www.esd.whs.mil/Portals/54/Documents/DD/issuances/dodi/550017_5C.PDF?ver=2018-02-21-074422-370),” the JSC is conducting its annual review of the MCM, United States.

The committee invites members of the public to suggest changes to the MCM. Please provide supporting rationale for any proposed changes.

Dated: February 16, 2021.
Aaron T. Siegel,
Alternate OSD Federal Register Liaison Officer, Department of Defense.

[FR Doc. 2021-03454 Filed 2-19-21; 8:45 am]

BILLING CODE 5001-06-P